COMMITTEE FOR PURCHASE FROM PEOPLE WHO ARE BLIND OR SEVERELY DISABLED

Procurement List; Proposed Additions

AGENCY: Committee for Purchase From People Who Are Blind or Severely Disabled.

ACTION: Proposed additions to the procurement list.

SUMMARY: The Committee is proposing to add to the Procurement List a product and a service to be provided by nonprofit agencies employing persons who are blind or have other severe disabilities.

Comments Must Be Received On or Before: 2/22/2010.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product and service will be required to provide the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide a product and a service to the Government.

2. If approved, the action will result in authorizing small entities to provide a product and a service to the Government.

3. There are no known regulatory alternatives which would accomplish the objectives of the Javits-Wagner-O'Day Act (41 U.S.C. 46-48c) in connection with a product and a service proposed for addition to the Procurement List.

Comments on this certification are invited. Commenters should identify the statement(s) underlying the certification on which they are providing additional information.

End of Certification

The following product and service are proposed for addition to Procurement List provided by the nonprofit agencies listed:

Product

NSN: 8105-00-NIB-1300—Grain Bag.

NPA: Mississippi Industries for the Blind, Jackson, MS.

Contracting Activity: Department of Agriculture, Animal and Plant Health Inspection Service, Minneapolis, MN.

Coverage: C-List for the requirements of the Department of Agriculture, Animal and Plant Health Inspection Service, Minneapolis, MN.

Service

Service Type/Location: Dining Facility Attendant Service and Cook Support, Fort Lewis and McChord AFB, WA.

NPA: Lakeview Center, Pensacola, FL.

Contracting Activity: Mission & Installation Contracting Command Center-Fort Knox (MICC CEN-FTK), Ft Knox, KY.

Barry S. Lineback,
Director, Business Operations.

[FR Doc. 2010-1211 Filed 1-21-10; 8:45 am]

BILLING CODE 6353-01-P